DEPARTMENT OF TRANSPORTATION

Federal Highway Administration

Agency Information Collection Activities: Submission for OMB Review

AGENCY: Federal Highway Administration (FHWA), DOT.

ACTION: Notice.

SUMMARY: The FHWA has forwarded the information collection request described in this notice to the Office of Management and Budget (OMB) for review and comment. We published a Federal Register Notice with a 60-day public comment period on this information collection on November 6, 2000 (65 FR 66578). We are required to publish this notice in the Federal Register by the Paperwork Reduction Act of 1995.

DATES: Please submit comments by March 16, 2001.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burdens; (3) ways for the FHWA to enhance the quality, usefulness, and clarity of the collected information; and (4) ways that the burdens could be minimized, including the use of electronic technology, without reducing the quality of the collected information.

FOR FURTHER INFORMATION CONTACT: Mr. Tony Solury, (202) 366-5003, Planning and Environment Core Business Unit, Federal Highway Administration, Department of Transportation, 400 7th Street, SW., Washington, DC 20590-0001. Office hours are from 7:30 a.m. to 4:30 p.m., Monday through Friday, except Federal holidays.

SUPPLEMENTARY INFORMATION: OMB Control Number: 2125-0039 (Expiration Date: April 30, 2001).

Title: Planning and Research Program Administration.

Abstract: Under the provisions of Title 23, United States Code, Section 505, two percent of Federal-aid highway funds in certain categories that are apportioned to the States are set aside to be used only for State planning and research (SPR funds). At least 25 percent of the SPR funds apportioned annually must be used for research, development, and technology transfer activities. In accordance with government-wide grant management procedures, a grant application must be submitted for these funds. In addition, recipients must submit periodic progress and financial reports. In lieu of Standard Form 424, Application for Federal Assistance, the FHWA uses a work program as the grant application. This includes a scope of work and budget for activities to be undertaken with FHWA planning and research funds during the next one-or two-year period. The information contained in the work program includes task descriptions, assignments of responsibility for conducting the work effort, and estimated costs for the tasks. This information is necessary to determine how FHWA planning and research funds will be utilized by the State Transportation Departments and if the proposed work is eligible for Federal participation. The content and frequency of submission of progress and financial reports specified in 23 CFR part 420 are as specified in OMB Circular A-102 and the companion common grant management regulations.

Respondents: 52 State Transportation Departments, including the District of Columbia and Puerto Rico.

Estimated Total Annual Burden: 29,120 hours (560 hours per respondent).

Authority: The Paperwork Reduction Act of 1995; 44 U.S.C. Chapter 35, as amended; and 49 CFR 1.48.

Issued on: February 8, 2001.
James R. Kabel,
Chief, Management Programs and Analysis Division.

[FR Doc. 01-3734 Filed 2-13-01; 8:45 am]

BILLING CODE 4910-22-P